DEPARTMENT OF HOMELAND SECURITY

U.S. Customs and Border Protection

DEPARTMENT OF THE TREASURY

19 CFR Part 12

[CBP Dec. 09-03]

RIN 1505-AC08

Import Restrictions Imposed on Certain Archaeological Material from China

AGENCIES: U.S. Customs and Border Protection, Department of Homeland Security; Department of the Treasury.

ACTION: Final rule.

SUMMARY: This final rule amends the U.S. Customs and Border Protection (CBP) regulations to reflect the imposition of import restrictions on certain archaeological material from the People's Republic of China (China). These restrictions are being imposed pursuant to an agreement between the United States and China that has been entered into under the authority of the Convention on Cultural Property Implementation Act in accordance with the United Nations Educational, Scientific and Cultural Organization (UNESCO) Convention on the Means of Prohibiting and Preventing the Illicit Import, Export and Transfer of Ownership of Cultural Property. The final rule amends CBP regulations by adding China to the list of countries for which a bilateral agreement has been entered into for imposing cultural property import restrictions. The final rule also contains the designated list that describes the types of archaeological articles to which the restrictions apply.

DATES: Effective Date: January 16, 2009.

FOR FURTHER INFORMATION CONTACT: For legal aspects, George Frederick McCray, Esq., Chief, Intellectual Property Rights and Restricted Merchandise Branch, Regulations and Rulings, Office of International Trade, (202) 325-0082. For operational aspects, Michael Craig, Chief, Interagency Requirements Branch, Trade Policy and Programs, Office of International Trade, (202) 863-6558.

SUPPLEMENTARY INFORMATION:

Background

The value of cultural property, whether archaeological or ethnological in nature, is immeasurable. Such items often constitute the very essence of a society and convey important information concerning a people's origin, history, and traditional setting. The importance and popularity of such items regrettably makes them targets of theft, encourages clandestine looting of archaeological sites, and results in their illegal export and import.

The United States shares in the international concern for the need to protect endangered cultural property. The appearance in the United States of stolen or illegally exported artifacts from other countries where there has been pillage has, on occasion, strained our foreign and cultural relations. This situation, combined with the concerns of museum, archaeological, and scholarly communities, was recognized by the President and Congress. It became apparent that it was in the national interest for the United States to join with other countries to control illegal trafficking of such articles in international commerce.

The United States joined international efforts and actively participated in deliberations resulting in the 1970 United Nations Educational, Scientific and Cultural Organization (UNESCO) Convention on the Means of Prohibiting and Preventing the Illicit Import, Export and Transfer of Ownership of Cultural Property (823 U.N.T.S. 231 (1972)). U.S. acceptance of the 1970 UNESCO Convention was codified into U.S. law as the “Convention on Cultural Property Implementation Act” (Pub. L. 97-446, 19 U.S.C. 2601 et seq. ) (the Act). This was done to promote U.S. leadership in achieving greater international cooperation towards preserving cultural treasures that are of importance to the nations from where they originate and contribute to greater international understanding of our common heritage.

Since the Act entered into force, import restrictions have been imposed on the archaeological and ethnological materials of a number of signatory nations. These restrictions have been imposed as a result of requests for protection received from those nations. More information on import restrictions can be found on the International Cultural Property Protection Web site (http://culturalheritage.state.gov).

This document announces that import restrictions are now being imposed on certain archaeological materials from China (for a definition of China, please see http://www.state.gov/s/inr/rls/4250.htm).

Determinations

Under 19 U.S.C. 2602(a)(1), the United States must make certain determinations before entering into an agreement to impose import restrictions under 19 U.S.C. 2602(a)(2). On May 13, 2008, the Assistant Secretary for Educational and Cultural Affairs, Department of State, made the determinations required under the statute with respect to certain archaeological materials originating in China that are described in the designated list set forth below in this document. These determinations include the following: (1) That the cultural patrimony of China is in jeopardy from the pillage of irreplaceable archaeological materials representing China's cultural heritage from the Paleolithic Period (c. 75,000 B.C.) through the end of the Tang Period (A.D. 907) and irreplaceable monumental sculpture and wall art at least 250 years old (19 U.S.C. 2602(a)(1)(A)); (2) that the Chinese government has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Assistant Secretary also found that the materials described in the determinations meet the statutory definition of “archaeological material of the state party” (19 U.S.C. 2601(2)).

The Agreement

On January 14, 2009, the United States and China entered into a bilateral agreement pursuant to the provisions of 19 U.S.C. 2602(a)(2). The agreement enables the promulgation of import restrictions on certain archaeological materials representing China's cultural heritage from the Paleolithic Period through the end of the Tang Period (A.D. 907) and monumental sculpture and wall art at least 250 years old. For the purposes of the agreement, the restricted Paleolithic objects date from approximately c. 75,000 B.C. A list of the categories of archaeological materials subject to the import restrictions is set forth later in this document.

Restrictions and Amendment to the Regulations

In accordance with the Agreement, importation of materials designated below are subject to the restrictions of 19 U.S.C. 2606 and § 12.104g(a) of the Customs and Border Protection (CBP) Regulations (19 CFR 12.104g(a)) and will be restricted from entry into the United States unless the conditions set forth in 19 U.S.C. 2606 and § 12.104c of the regulations (19 CFR 12.104c) are met. CBP is amending § 12.104g(a) of the CBP Regulations (19 CFR 12.104g(a)) to indicate that these import restrictions have been imposed.

Material Encompassed in Import Restrictions

The bilateral agreement between the United States and China includes, but is not limited to, the categories of objects described in the designated list set forth below. These categories of objects are subject to the import restrictions set forth above, in accordance with the above explained applicable law and the regulation amended in this document (19 CFR 12.104(g)(a)).

Designated List of Archaeological Material of China

Simplified Chronology

Paleolithic period (c. 75,000-10,000 BC).

Neolithic period (c. 10,000-2000 BC).

Erlitou and other Early Bronze Age cultures (c. 2000-1600 BC).

Shang Dynasty and other Bronze Age Cultures (c. 1600-1100 BC).

Zhou Dynasty (c. 1100-256 BC).

Qin Dynasty (221-206 BC).

Han Dynasty (206 BC-AD 220).

Three Kingdoms (AD 220-280).

Jin Dynasty (AD 265-420).

Southern and Northern Dynasties (AD 420-589).

Sui Dynasty (AD 581-618).

Tang Dynasty (AD 618-907).

I. Ceramic

The ceramic tradition in China extends back to at least the 6th millennium B.C. and encompasses a tremendous variety of shapes, pastes, and decorations. Chinese ceramics include earthenwares, stonewares and porcelains, and these may be unglazed, glazed, underglazed, painted, carved, impressed with designs, decorated with applied designs or a combination of all of these. Only the most distinctive are listed here. Vessels are the most numerous and varied types of ceramics. Ceramic sculptures include human, animal, mythic subjects, and models of scenes of daily life. Architectural elements include decorated bricks, baked clay tiles with different glaze colors, and acroteria (ridge pole decorations).

A. Vessels

1. Neolithic Period.

Archaeological work over the past thirty years has identified numerous cultures of the Neolithic period from every part of China, all producing distinctive ceramics. Early Neolithic cultures (c. 7500-5000 BC) include such cultures as Pengtoushan (northern Hunan Province), Peiligang (Henan Province), Cishan (Hebei Province), Houli (Shandong Province), Xinglongwa (eastern Inner Mongolia and Liaoning Province), Dadiwan and Laoguantai (Gansu and Shaanxi Province), Xinle (Liaodong peninsula, Liaoning Province), among others. Examples of Middle Neolithic cultures (c. 5000-3000 BC) include Yangshao (Shaanxi, Shanxi, and Henan Provinces), Daxi (eastern Sichuan and western Hubei Provinces), Hemudu (lower Yangzi River valley, Zhejiang Province), Majiabang (Lake Tai/Taihu area to Hangzhou Bay, Zhejiang and southern Jiangsu Provinces), Hongshan (eastern Inner Mongolia, Liaoning, and northern Hebei Provinces), Dawenkou (Shandong Province), among others. Later Neolithic cultures (c. 3500-2000 BC) include Liangzhu (lower Yangzi River Valley), Longshan (Shandong and Henan Provinces), Taosi (southern Shanxi Province), Qujialing (middle Yangzi River valley in Hubei and Hunan Provinces), Baodun (Chengdu Plain, Sichuan Province), Shijiahe (western Hubei Province), and Shixia (Guangdong Province), among many others.

Neolithic vessels are sometimes inscribed with pictographs. When present, they are often single incised marks on vessels of the Neolithic period, and multiple incised marks (sometimes around the rim) on late Neolithic vessels.

a. Yangshao: The “classic” form of Neolithic culture, c. 5000-3000 BC in Shanxi, Shaanxi, Gansu, Henan, and adjacent areas. Hand-made, red paste painted with black, sometimes white motifs, that are abstract and depict plants, animals, and humans. Forms include bulbous jars with lug handles, usually with a broad shoulder and narrow tapered base, bowls, open mouth vases, and flasks (usually undecorated) with two lug handles and a pointed base.

b. Shandong Longshan: Vessels are wheel-made, black, very thin-walled, and highly polished, sometimes with open cut-out decoration. Forms include tall stemmed cups (dou), tripods (li and ding), cauldrons, flasks, and containers for water or other liquids.

2. Erlitou, Shang, and Zhou Vessels.

a. Vessels are mostly utilitarian gray paste cooking tripod basins, cooking and storage jars, wide mouth containers, pan circular dishes with flat base, and broad three legged version of pan. The latter also appear in fine gray and black pastes. The forms of these include the kettle with lid (he), tripod liquid heating vessel with pouring spout (jue), tripod cooking pot (ding), goblet or beaker (gu), tripod water heater without pouring spout (jia).

b. Shang and Zhou: Vessels may be wheel-made or coiled. Vessels can be utilitarian gray paste cooking vessels, often cord-impressed, or more highly decorated types. Surfaces can be impressed and glazed yellow to brown to dark green. White porcelain-like vessels also occur. Forms include those of the Erlitou plus wide-mouth containers and variously shaped jars and serving vessels.

3. Qin through Southern and Northern Vessels.

Most vessels are wheel-made. The main developments are in glazing. Earthenwares may have a lead-based shiny green glaze. Grey stonewares with an olive color are called Yue ware.

4. Sui and Tang Vessels.

Note: Most vessels are wheel-made.

a. Sui: Pottery is plain or stamped.

b. Tang: A three-color glazing technique is introduced for earthenwares (sancai). Green, yellow, brown, and sometimes blue glazes are used together on the same vessel. For stoneware, the olive glaze remains typical.

B. Sculpture

1. Neolithic: Occasional small figurines of animals or humans. From the Hongshan culture come human figures, some of which appear pregnant, and human faces ranging from small to life size, as well as life-size and larger fragments of human body parts (ears, belly, hands, and others).

2. Shang through Eastern Zhou: Ceramic models and molds for use in the piece-mold bronze casting process. Examples include frontal animal mask (taotie), birds, dragons, spirals, and other decorative motifs.

3. Eastern Zhou, Qin and Han: Figures are life-size or smaller. They are hand- and mold-made, and may be unpainted, painted, or glazed. Figures commonly represent warriors on foot or horseback, servants, acrobats, and others. Very large numbers date to the Han Dynasty. In some cases, the ceramic male and female figurines are anatomically accurate, nude, and lack arms (in these cases, the figures were originally clad in clothes and had wooden arms that have not been preserved). Other ceramic objects, originally combined to make scenes, take many forms including buildings, courtyards, ships, wells, and pig pens.

4. Tang: Figures depicting Chinese people, foreigners, and animals may be glazed or unglazed with added paint. Approximately 15 cm to 150 cm high.

C. Architectural Decoration and Molds

1. Han: Bricks having a molded surface with geometric or figural design. These depict scenes of daily life, mythic and historical stories, gods, or demons.

2. Three Kingdoms through Tang: Bricks may be stamped or painted with the same kinds of scenes as in the Han Dynasty.

3. Han through Tang: Roof tiles may have a corded design. Eaves tiles with antefixes have Chinese characters or geometric designs. Glazed acroteria (ridge pole decorations) in owl tail shape.

II. Stone

A. Jade

Ancient Chinese jade is, for the most part, the mineral nephrite. It should be noted, however, that many varieties of hard stone are sometimes called “jade” (yu) in Chinese. True nephrite jade can range in color from white to black, and from the familiar shades of green to almost any other color. Jade has been valued in China since the Neolithic period. Types commonly encountered include ornaments, amulets, jewelry, weapons, insignia, and vessels.

1. Ornaments and jewelry.

a. Neolithic (Hongshan): Types are mostly hair cylinders or pendant ornamental animal forms such as turtles, fish-hawks, cicadas, and dragons. One common variety is the so-called “pig-dragon” (zhulong), a circular ring form with a head having wrinkled snout (the “pig”) and long dragon-like body.

b. Neolithic (Liangzhu): Types include awl-shaped pendants, three-prong attachments, openwork crown-shapes, beads, birds, fishes, frogs.

c. Neolithic (Shandong Longshan) and Erlitou: Ornaments for body and clothing such as stick pins and beads.

d. Shang and Zhou: Earrings, necklaces, pectorals, hair stickpins, ornaments, sometimes in the shape of small animals, dragons, or other forms; belt buckles, and garment hooks. During the Zhou Dynasty, there appear elaborate pectorals made of jade links, and jade inlay on bronze.

e. Qin, Han and Three Kingdoms: Pectoral ornaments and small-scale pendants continue to be produced. Types include pectoral slit earrings, large disks (bi), openwork disks (bi), openwork plaques showing a mythic bird (feng), and various types of rings. Entire burial suits of jade occur during the Han Dynasty. More frequently occurring are Han Dynasty belthooks, decorated with dragons, and garment hooks.

2. Weapons, Tools, and Insignia.

a. Neolithic (Liangzhu): Types include weapons such as broad-bladed axes (yue), long rectangular or trapezoidal blades (zhang), often with holes along the back (non-sharpened) edge for hafting; tools such as hoe, adze, knife blades.

b. Neolithic (Shandong Longshan) and Erlitou: Broad axe (yue) and halberd or “dagger axe” (ge).

c. Shang and Zhou: Broad axes (yue) and halberd (ge) may be attached to turquoise inlaid bronze shafts.

d. Neolithic (Liangzhu) to Zhou: Tool types include hoe, adze, knife blades.

e. Neolithic (Shandong Longshan) to Zhou: Insignia blades based on tool shapes such as long hoe, flat adze, and knife.

3. Ceremonial paraphernalia.

Neolithic—Han: Types include flat circular disks (bi) with a cut-out central hole and prismatic cylindrical tubes (cong), usually square on the outside with a circular hole through its length, often with surface carving that segments the outer surface into three or more registers. The cong tubes are often decorated with a motif on each corner of each register showing abstract pairs of eyes, animal and/or human faces. Cong tubes, while most closely linked with the Liangzhu culture, were widely distributed among the many late Neolithic cultures of China.

4. Vessels.

a. Shang through Han: Types include eared cups and other tableware.

b. Qin through Tang: Tableware forms such as cups, saucers, bowls, vases, and inkstones.

5. Other.

Chimes from all eras may be rectangular or disk-shaped.

B. Amber

Amber is used for small ornaments from the Neolithic through Tang dynasties.

C. Other Stone

1. Tools and Weapons.

a. Paleolithic and later eras: Chipped lithics from the Paleolithic and later eras including axes, blades, scrapers, arrowheads, and cores.

b. Neolithic and later eras: Ground stone including hoes, sickles, spades, axes, adzes, pestles, and grinders.

c. Erlitou through Zhou: As with jade, weapon types include blades, broad axes (yue), and halberds (ge).

2. Sculpture.

Stone becomes a medium for large-scale images in the Qin and Han. It is put to many uses in tombs. It also plays a major role in representing personages associated with Buddhism, Daoism, and Confucianism.

a. Sculpture in the round.

Note: This section includes monumental sculpture at least 250 years old.

i. Shang: Sculpture includes humans, often kneeling with hands on knees, sometimes with highly decorated incised robes, owls, buffalo, and other animals. The Jinsha site near Chengdu, Sichuan, dating to the late Shang Dynasty, has yielded numerous examples of stone figurines in a kneeling position, with carefully depicted hair parted in the center, and with hands bound behind their back.

ii. Han to Qing: The sculpture for tombs includes human figures such as warriors, court attendants, and foreigners. Animals include horse, tiger, pig, bull, sheep, elephant, and fish, among many others.

iii. The sculpture associated with Buddhism is usually made of limestone, sandstone, schist and white marble. These be covered with clay, plaster, and then painted. Figures commonly represented are the Buddha and disciples in different poses and garments.

iv. The sculpture associated with Daoism is usually sandstone and limestone which may be covered and painted. Figures commonly represented are Laozi or a Daoist priest.

v. The sculpture associated with Confucianism represents Confucius and his disciples.

b. Relief Sculpture.

i. Han: Relief sculpture is used for all elements of tombs including sarcophagi, tomb walls, and monumental towers. Images include hunting, banqueting, historical events, processions, scenes of daily life, fantastic creatures, and animals.

ii. Tang: Tomb imagery now includes landscapes framed by vegetal motifs.

c. Art of cave or grotto temples.

Han—Qing: Note that this section includes monumental sculpture at least 250 years old. These temples, mostly Buddhist, combine relief sculpture, sculpture in the round, and sometimes mural painting. The sculptures in the round may be stone or composites of stone, wood, and clay and are painted with bright colors.

d. Stelae.

Han—Qing: Note that this section includes monumental sculpture at least 250 years old. Tall stone slabs set vertically, usually on a tortoise-shaped base and with a crown in the form of intertwining dragons. Stelae range in size from around 0.60m to 3m. Some include relief sculpture consisting of Buddhist imagery and inscription, and others are secular memorials with long memorial inscription on front and back faces.

3. Architectural Elements.

a. Erlitou through Zhou: Marble or other stone is used as a support for wooden columns and other architectural or furniture fixtures.

b. Qing: Note that this section includes monumental sculpture at least 250 years old. Sculpture is an integral part of Qing Dynasty architecture. Bridges, archways, columns, staircases and terraces throughout China are decorated with reliefs. Colored stones may be used, including small bright red, green, yellow and black ones. Statue bases are draped with imitations of embroidered cloths. Stone parapets are carved with small, elaborately adorned fabulous beasts.

4. Musical Instruments.

Neolithic through Han, and later: Chimestones, chipped and/or ground from limestone and other resonant rock. They may be highly polished, carved with images of animals or other motifs, and bear inscriptions in Chinese characters. They usually have a chipped or ground hole to facilitate suspension from a rack.

III. Metal

The most important metal in traditional Chinese culture is bronze (an alloy of copper, tin and lead), and it is used most frequently to cast vessels, weapons, and other military hardware. Iron artifacts are not as common, although iron was used beginning in the middle of the Zhou Dynasty to cast agricultural tool types, vessels, weapons and measuring utensils. As with ceramics, only the most distinctive are listed here.

A. Bronze

1. Vessels.

Note: Almost any bronze vessel may have an inscription in archaic Chinese characters.

a. Erlitou: Types include variations on pots for cooking, serving and eating food including such vessels as the cooking pot (ding), liquid heating vessel with open spout (jue), or with tubular spout (he), and water heater without spout (jia).

b. Shang: Bronze vessels and implements include variations on the ceramic posts used for cooking, serving, and eating including but not limited to the tripod or quadripod cooking pot (ding), water container (hu), and goblet (gu). Animal-shaped vessels include the owl, mythic bird, tiger, ram, buffalo, deer, and occasionally elephant and rhinoceros. Most types are decorated with symbolic images of a frontal animal mask (taotie) flanked by mythical birds and dragons, or with simpler images of dragons or birds, profile cicadas, and geometric motifs, including a background “cloud and thunder” pattern of fine squared spirals.

c. Zhou: Types include those of previous eras. Sets begin to be made with individual vessels having similar designs. Late innovations are made to surface treatment: Relief decorations of intertwined dragons and feline appendages; inlay with precious stones and gems; inlay with other metals such as gold and silver; gilding; pictorial narratives featuring fighting, feasting and rituals; and various geometric designs.

d. Qin and Han: All vessel types and styles popularized of the immediately preceding era continue.

2. Sculpture.

a. Shang and other Bronze Age Cultures through Zhou: Wide variety of cast human and animal sculptures. Particularly distinctive are the bronze sculptures from the Sanxingdui Culture in Sichuan which include life-sized human heads (often with fantastic features and sometimes overlaid with gold leaf) and standing or kneeling figurines ranging in size from 5cm to more than 2 meters; tree-shaped assemblages; birds, dragons, and other real and fantastic animals. Bronze sculpture from Chu and related cultures include supports for drums and bell sets (often in the shape of guardian figures, fantastic animals, or intertwined snakes).

b. Qin and Han: Decorative bronze types include statues of horses, lamps in the shape of female servants, screen supports in the shape of winged immortals, incense burners in the shape of mountains, mirrors, and inlaid cosmetic boxes.

c. Buddhist: In the Han there first appear small portable images of Sakyamuni Buddha. During the next historical eras, such images proliferate and become more varied in terms of size and imagery. Most of these are free-standing, depicting such subjects as the historical Buddha Sakyamuni, Buddhas associated with paradises, Buddha's disciples, and scenes from the Lotus Sutra. Gilt bronzes are made from the Han to Tang.

3. Coins.

a. Zhou Media of Exchange and Tool-shaped Coins: Early media of exchange include bronze spades, bronze knives, and cowrie shells. During the 6th century BC, flat, simplified, and standardized cast bronze versions of spades appear and these constitute China's first coins. Other coin shapes appear in bronze including knives and cowrie shells. These early coins may bear inscriptions.

b. Later, tool-shaped coins began to be replaced by disc-shaped ones which are also cast in bronze and marked with inscriptions. These coins have a central round or square hole.

c. Qin: In the reign of Qin Shi Huangdi (221-210 BC) the square-holed round coins become the norm. The new Qin coin is inscribed simply with its weight, expressed in two Chinese characters ban liang. These are written in small seal script and are placed symmetrically to the right and left of the central hole.

d. Han through Sui: Inscriptions become longer, and may indicate that inscribed object is a coin, its value in relation to other coins, or its size. Later, the period of issue, name of the mint, and numerals representing dates may also appear on obverse or reverse. A new script, clerical (lishu), comes into use in the Jin.

e. Tang: The clerical script becomes the norm until 959, when coins with regular script (kaishu) also begin to be issued.

4. Musical Instruments.

a. Shang: Instruments include individual clapper-less bells (nao), singly and in sets. Barrel drums lay horizontally, have a saddle on top, and rest on four legs.

b. Zhou through Tang: Bells and bell sets continue to be important. The bells vary considerably in size in shape. Other instruments include mouth organs (hulu sheng), gongs, cymbals, and a variety of types of drums, including drums (chunyu) and large “kettledrums” from south and southwest China.

5. Tools and Weapons.

Tools and implements of all eras include needles, spoons, ladles, lifting poles, axes, and knives. Weapons and military gear include the broad axe, dagger axe, knives, spear points, arrowheads, helmets, chariot fittings, combination of spear and dagger (ji), cross-bow, and horse frontlets.

6. Miscellaneous.

Other bronze items include but are not limited to mirrors, furniture parts, and utensils such belt buckles, garment hooks, weights, measuring implements, incense burners, lamps, spirit trees, tallies, seals, rings, bells, and cosmetic containers.

B. Iron

Iron is used for such utilitarian objects as axes, hammers, chisels, and spades. At the end of the Zhou, steel swords with multi-faceted metal inlay are produced.

1. Zhou through Han: Bimetallic weapons such as iron-bladed swords and knives with a bronze hilt.

2. Three Kingdoms through Sui: Small scale Buddhist images are cast.

3. Tang: Large scale castings include Buddhist statues, bells, lions, dragons, human figures, and pagodas.

C. Gold and Silver

During the Shang and Zhou Dynasties, gold is used to produce jewelry and a limited number of vessel types, and as gilding, gold leaf, or inlay on bronze. Gold and silver become widely used in the Han Dynasty and remain so through the Tang Dynasty. Objects include vessels such as cups, ewers, jars, bowls; utensils such as lamps, containers, jewelry, liturgical wares, furniture parts; and Buddhist sculpture such as images of Buddha and reliquaries.

IV. Bone, Ivory, Horn, and Shell

Neolithic through Tang: The most important uses of these materials is for vessels, seals, small-scale sculptures, and personal ornaments. In the Neolithic period, Erlitou culture, and Shang Dynasty bone (bovine scapula and tortoise plastrons, or lower shells) is used for divination: A carefully prepared bone or shell was thinned by drilling series of holes almost through the bone, to which heat was applied to make the bone crack. In some cases from the Late Shang Dynasty, the bones carry inscriptions revealing the date and nature of the question asked and, occasionally, the outcome of the event. The cowrie shells used as money in the Shang Dynasty and later periods show signs of use. Worked shell imitations of cowries are also known. Ivory and horn are used to craft tableware utensils such as cups and containers as early as the Shang Dynasty; these are sometimes inlaid with turquoise or other stones.

V. Silks and Textiles

Neolithic through Tang: Silk worms are domesticated in China as early as the Neolithic. Silk cloth is preserved as garments and parts thereof, as a covering for furniture, and as painted or embroidered banners. Techniques include flat weave, moiré, damask, gauze, quilting, and embroidery.

VI. Lacquer and Wood

Neolithic through Tang: Lacquer is a transparent sap collected from the lac tree. When dissolved, it may be repeatedly applied to a wood or fabric form. The resulting product is sturdy and light. Lacquer vessels first appear in the Neolithic period, and become highly sophisticated and numerous by the middle Zhou through Han Dynasties. In the Sui and Tang Dynasties the practice is invented of creating a hard, thick surface of lacquer with the application of many thin layers. The resulting object may be carved and or inlaid before it hardens completely. Common colors for lacquer are red and black. Object types include: Vessels such as bowls, dishes, and goblets; military gear such shields and armor; musical instruments such as zithers (qin) and drums, related supports for drums and for bell sets; and boxes and baskets with painted or carved lids.

Wooden objects from this era are mainly preserved when painted with lacquer. These include architectural elements, utensils, coffins, musical instruments, and wood sculptures.

VII. Bamboo and Paper

Zhou through Tang: Types include texts on bamboo and wooden slips, and on paper. The slips may be found singly, or in groups numbering into the thousands. Some Buddhist sutras were printed with movable wooden type.

VIII. Glass

Zhou through Tang: Glass types include mostly tablewares, such as cups, plates, saucers.

IX. Painting and Calligraphy

A. Wall Painting

Note that this section includes wall art at least 250 years old. The painted bricks of the Han through Tang tomb walls have already been mentioned. That tradition is partially concurrent with a fresco tradition that runs from the Han through Qing Dynasties. Temples including those in caves or grottos have wall paintings with Buddhist, Confucian, and Daoist themes.

B. Other Painting

Han through Tang: Paintings, dating to as early as the Southern and Northern, are on such media as banners, hand-scrolls, and fans. Subjects are drawn from Buddhism, Confucianism, and Daoism. Other subjects include landscapes and hunting scenes.

Inapplicability of Notice and Delayed Effective Date

This amendment involves a foreign affairs function of the United States and is, therefore, being made without notice or public procedure (5 U.S.C. 553(a)(1)). For the same reason, a delayed effective date is not required under 5 U.S.C. 553(d)(3).

Regulatory Flexibility Act

Because no notice of proposed rulemaking is required, the provisions of the Regulatory Flexibility Act (5 U.S.C. 601 et seq.) do not apply.

Executive Order 12866

Because this rule involves a foreign affairs function of the United States, it is not subject to Executive Order 12866.

Signing Authority

This regulation is being issued in accordance with 19 CFR 0.1(a)(1).

List of Subjects in 19 CFR Part 12

Cultural property, Customs duties and inspection, Imports, Prohibited merchandise, Reporting and recordkeeping requirements.

Amendment to CBP Regulations

For the reasons set forth above, part 12 of Title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624;

* * * * *

Sections 12.104 through 12.104i also issued under 19 U.S.C. 2612;

* * * * *

2. In § 12.104g, paragraph (a), the table is amended by adding the People's Republic of China to the list in appropriate alphabetical order as follows:

§ 12.104g Specific items or categories designated by agreements or emergency actions.

(a) * * *

State party | Cultural property | Decision No.
* * * * * * *
People's Republic of China | Archaeological materials representing China's cultural heritage from the Paleolithic Period (c. 75,000 B.C.) through the end of the Tang Period (A.D. 907) and monumental sculpture and wall art at least 250 years old | CBP Dec. 09-03.
* * * * * * *

* * * * *

W. Ralph Basham,
Commissioner, U.S. Customs and Border Protection.
Approved: January 12, 2009.
Timothy E. Skud,
Deputy Assistant Secretary of the Treasury.

[FR Doc. E9-848 Filed 1-15-09; 8:45 am]

BILLING CODE 9111-14-P